DEPARTMENT OF DEFENSE

Office of the Secretary

[Docket ID: DOD-2009-OS-0165]

Proposed Collection; Comment Request

AGENCY: Office of the Under Secretary of Defense (Personnel and Readiness), DoD.

ACTION: Notice.

SUMMARY: In compliance with section 3506(c)(2)(A) of the Paperwork Reduction Act of 1995, the Office of the Under Secretary of Defense (Personnel and Readiness) announces the following proposed extension of a public information collection and seeks public comment on the provisions thereof. Comments are invited on: Whether the proposed collection of information is necessary for the proper performance of the functions of the agency, including whether the information shall have practical utility; the accuracy of the agency's estimate of burden of the proposed information collection; ways to enhance the quality, utility, and clarity of the information to be collected; and ways to minimize the burden of the information collection on respondents, including through the use of automated collection techniques or other forms of information technology.

DATES: Consideration will be given to all comments received by January 4, 2010.

ADDRESSES: You may submit comments, identified by docket number and title, by any of the following methods:

• Federal eRulemaking Portal: http://www.regulations.gov. Follow the instructions for submitting comments.

• Mail: Federal Docket Management System Office, 1160 Defense Pentagon, Washington, DC 20301-1160.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to the Office of the Under Secretary of Defense (Personnel and Readiness) (Military Personnel Policy/Accession Policy), ATTN: Major Arturo Roque. 4000 Defense Pentagon, Washington, DC 20301-4000, or call at (703) 695-5527.

Title, Associated Form, and OMB Control Number: Title from OMB Form 83-I, block 7; Police Record Check; DD Form 369, OMB Number 0704-0007.

Needs and Uses: This information collection requirement is necessary to obtain information about arrests and criminal records on applicants to the Armed Forces of the United States. The DD Form 369, Police Records Check, is used to identify any disqualifying history regarding arrests or convictions.

Affected Public: State, local, or tribal government.

Annual Burden Hours: 78,750.

Number of Respondents: 175,000.

Responses per Respondent: 1.

Average Burden per Response: 27 minutes.

Frequency: On occasion.

SUPPLEMENTARY INFORMATION:

Summary of Information Collection

This information is collected to provide the Armed Services with background information on an applicant. History of criminal activity, arrests, or confinement is disqualifying for military service. The respondents will be local and State law enforcement agencies. The DD Form 369, Police Record Check, is the method of information collection; responses are to reference any records on the applicant. The information will be used to determine suitability of the applicant for the military service.

Dated: October 30, 2009.
Mitchell S. Bryman,
Alternate OSD Federal Register Liaison Officer, Department of Defense.

[FR Doc. E9-26521 Filed 11-3-09; 8:45 am]

BILLING CODE 5001-06-P